DEPARTMENT OF TRANSPORTATION

Office of the Secretary

Aviation Proceedings; Agreements Filed

Aviation Proceedings, Agreements filed during the week ending November 15, 2002. The following Agreements were filed with the Department of Transportation under the provisions of 49 U.S.C. sections 412 and 414. Answers may be filed within 21 days after the filing of the application.

Docket Number: OST-2002-13821.

Date Filed: November 13, 2002.

Parties: Members of the International Air Transport Association.

Subject: PTC3 0595 dated 12 November 2002, Mail Vote 251—Resolution 010g, TC3 between Japan/Korea and South East Asia, Special Passenger Amending Resolution between Korea, (Rep. of) and China, (excluding Hong Kong SAR and Macao SAR), Intended effective date: 26 December 2002.

Docket Number: OST-2002-13822.

Date Filed: November 13, 2002.

Parties: Members of the International Air Transport Association.

Subject: Mail Vote 246, PTC23 ME-TC3 0155 dated 8 October 2002, TC23/TC123 Middle East-South East Asia Resolutions r1-r16, PTC23 ME-TC3 0159 dated 5 November 2002 (Affirmative), Minutes—PTC23 ME-TC3 0157 dated 15 October 2001, Tables—PTC23 ME-TC3 Fares 0064 dated 5 November 2002, Intended effective date: 1 April 2003.

Docket Number: OST-2002-13826.

Date Filed: November 13, 2002.

Parties: Members of the International Air Transport Association.

Subject: PTC23 EUR-SWP 0071 dated 5 November 2002, TC23/TC123 Europe-South West Pacific Resolutions r1-r17, Minutes—PTC23 EUR-SWP 0072 dated 5 November 2002, Tables—PTC23 EUR-SWP FARES 0036 dated 5 November 2002, Intended effective date: 1 April 2003.

Dorothy Y. Beard,
Federal Register Liaison.

[FR Doc. 02-30106 Filed 11-26-02; 8:45 am]

BILLING CODE 4910-62-P